DEPARTMENT OF DEFENSE

Department of the Air Force

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive (exclusive with respect to the field of Injection Molding for sales of shaped materials to customers with the final shape either machined or modified by the end user) patent license agreement to Strong Plastics, LLC, a corporation of the State of Ohio, having a place of business at 328 Birchbrook Ct., Dayton, OH 45458.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. 938 in the subject line of the message.

FOR FURTHER INFORMATION CONTACT: Mr. Timothy M. Barlow, (937) 904-5760, Air Force Materiel Command Law Office, AFMCLO/JAZ, 2240 B Street, Rm 260, Wright-Patterson AFB, OH 45433-7109; Facsimile: (937) 255-3733; Email: afmclo.jaz.tech@us.af.mil.

SUPPLEMENTARY INFORMATION: The Department of the Air Force intends to grant the partially exclusive patent license agreement for the invention described in:

—U.S. Patent No. 8,092,894, entitled, “High Strength Polymerics,” filed 5 May 2008, and issued 10 January 2012.

Authority: 35 U.S.C. 209; 37 CFR 404.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Carlinda Lotson,
Acting Air Force Federal Register Liaison Officer.

[FR Doc. 2019-02749 Filed 2-19-19; 8:45 am]

BILLING CODE 5001-10-P